Title 3—

The President

Executive Order 13384 of July 27, 2005

Assignment of Functions Relating to Original Appointments as Commissioned Officers and Chief Warrant Officer Appointments in the Armed Forces

By the authority vested in me as President by the Constitution and the laws of the United States of America, including section 301 of title 3, United States Code, it is hereby ordered as follows:

Section 1. Assignment of Functions to the Secretary of Defense. The Secretary of Defense shall perform the functions of the President under the following provisions of title 10, United States Code:

(a) subsection 531(a)(1); and

(b) the second sentence of subsection 571(b).

Sec. 2. Reassignment of Functions Assigned. The Secretary of Defense may not reassign the functions assigned to him by this order.

Sec. 3. General Provisions. (a) Nothing in this order shall be construed to limit or otherwise affect the authority of the President as Commander in Chief of the Armed Forces of the United States, or under the Constitution and laws of the United States to nominate or to make or terminate appointments.

(b) This order is not intended to, and does not, create any right or benefit, substantive or procedural, enforceable at law or in equity by any party against the United States, its departments, agencies, entities, officers, employees or agents, or any other person.

B

THE WHITE HOUSE,

July 27, 2005.

[FR Doc. 05-15160

Filed 7-28-05; 8:45 am]

Billing code 3195-01-P